DEPARTMENT OF JUSTICE

Antitrust Division

Notice Pursuant to the National Cooperative Research and Production Act of 1993—Network Centric Operations Industry Consortium, Inc.

Notice is hereby given that, on May 18, 2007, pursuant to section 6(a) of the National Cooperative Research and Production Act of 1993, 15 U.S.C. 4301 et seq. (“the Act”), Network Centric Operations Industry Consortium, Inc. has filed written notifications simultaneously with the Attorney General and the Federal Trade Commission disclosing changes in its membership. The notifications were filed for the purpose of extending the Act's provisions limiting the recovery of antitrust plaintiffs to actual damages under specified circumstances. Specifically, TKC Communications, LLC, Fairfax, VA; Americom Government Services, McLean, VA; ANTs Software Inc., Burlingame, CA; Whitney, Bradley & Brown, Inc., Vienna, VA; Objectivity, Inc., Sunnyvale, CA; Federal Aviation Administration, Washington, DC; United States Department of Homeland Security, Science and Technology Directorate, Washington, DC; Aydin Yazlim ve Elektronik Sanayii A.S., Ankara, Turkey; Huneed Technologies, Gunpo-si, Gyeonggi-do, Republic of Korea; Meteksan Defence Industry Inc., Ankara, Turkey; Software Engineering Institute/Carnegie Mellon University, Pittsburgh, PA; and LMI Government Consulting, McLean, VA have been added as parties to this venture.

Also, Alcatel Government Solutions, Sterling, VA; Cryptek, Inc., Sterling, VA; Intel Corporation, Santa Clara, CA; Science Applications International Corporation, San Diego, CA; and Camber Corporation, Huntsville, AL have withdrawn as parties to this venture. In addition, Instrumentointi Oy has changed its name to Insta Group, Tampere, Finland and Marconi Federal, Inc. has changed its name to Ericsson Federal, Inc., Columbia, MD.

No other changes have been made in either the membership or planned activity of the group research project. Membership in this group research project remains open, and Network Centric Operations Industry Consortium, Inc. intends to file additional written notifications disclosing all changes in membership.

On November 19, 2004, Network Centric Operations Industry Consortium, Inc. filed its original notification pursuant to section 6(a) of the Act. The Department of Justice published a notice in the Federal Register pursuant to section 6(b) of the the Act on February 2, 2005 (70 FR 5486).

The last notification was filed with the Department on February 16, 2007. A notice was published in the Federal Register pursuant to section 6(b) of the Act on March 20, 2007 (72 FR 13125).

Patricia A. Brink,
Deputy Director of Operations, Antitrust Division.

[FR Doc. 07-3409 Filed 7-12-07; 8:45 am]

BILLING CODE 4410-11-M